FEDERAL TRADE COMMISSION

16 CFR Part 1

Commission Information Collection Requirements Under the Paperwork Reduction Act; OMB Control Numbers

AGENCY: Federal Trade Commission (FTC or Commission).

ACTION: Final rule.

SUMMARY: The FTC is codifying the control numbers that have been issued by the Office of Management and Budget (OMB) for information collection requirements in Commission rules that are approved under the Paperwork Reduction Act. Control numbers will be centrally located in a table in our regulations.

DATES: Effective Date: November 1, 2013.

FOR FURTHER INFORMATION CONTACT: Gary Greenfield, (202) 326-2753, Attorney, Federal Trade Commission, Office of the General Counsel, Room H-576, 600 Pennsylvania Avenue NW., Washington, DC 20580.

SUPPLEMENTARY INFORMATION: The Paperwork Reduction Act of 1995, 44 U.S.C. 3501-3521, and OMB's implementing regulations, 5 CFR Part 1320, require OMB to review certain information collection requirements imposed by federal agency rules. Upon approval of an agency requirement, OMB issues a control number. The agency must display this control number to inform the public that the agency's information collection requirements have been approved by OMB. For ease of reference, the Commission has determined to publish all the control numbers assigned to its rules (and rules it otherwise co-enforces with another federal agency) in a centrally codified table in the Code of Federal Regulations.

This rule, which pertains to agency procedure, organization, or practice, is exempt from the public notice and comment requirements of the Administrative Procedure Act. See 5 U.S.C. 553(b). For the same reason, the Commission is not required to prepare and publish a regulatory flexibility analysis to accompany this rule under the Regulatory Flexibility Act. See 5 U.S.C. 603, 604.

List of Subjects in 16 CFR Part 1, Subpart O

Paperwork requirements.

For the reasons stated in the preamble, the Commission amends Title 16, Chapter 1, Code of Federal Regulations, as follows:

1. Add new subpart O to Part 1 to read as follows:

Subpart O—OMB Control Numbers for Commission Information Collection Requirements

Sec.
1.101 OMB control numbers assigned pursuant to the Paperwork Reduction Act.

Authority: 44 U.S.C. 3501-3521.

§ 1.101 OMB control numbers assigned pursuant to the Paperwork Reduction Act.

(a) Purpose. This part collects and displays control numbers assigned by the Office of Management and Budget (OMB) pursuant to the Paperwork Reduction Act of 1995 to information collection requirements in rules issued or enforced by the Commission. A response to an information collection is not required unless the collection of information displays a valid OMB control number. This part fulfills the mandate (44 U.S.C. 3507(a)(3), 44 U.S.C. 3512) that agencies display the current control number assigned by the OMB Director to agency information collection requirements and inform affected persons that they need not respond to a collection of information unless it displays a valid control number.

(b) Display.

Current OMB control number (all numbers begin with 3084-) | 16 CFR part where the information collection requirement is located (or alternate part(s) if issued by another agency, co-enforced by the Federal Trade Commission)
0005 | 801-803.
0025 | 453.
0068 | 306.
0069 | 305.
0085 | 12 CFR part 205; 12 CFR part 1005.
0086 | 12 CFR part 213; 12 CFR part 1013.
0087 | 12 CFR part 202; 12 CFR part 1002.
0088 | 12 CFR part 226; 12 CFR part 1026.
0094 | 309.
0097 | 310.
0099 | 301.
0100 | 300.
0101 | 303.
0102 | 308.
0103 | 423.
0104 | 425.
0105 | 432.
0106 | 435.
0107 | 436.
0108 | 455.
0109 | 460.
0110 | 500-503.
0111 | 701.
0112 | 702.
0113 | 703.
0117 | 312.
0121 | 313.
0127 | 315.
0128 | 12 CFR 1022.136; 12 CFR 1022.137.
0131 | 680; 12 CFR 1022.20.
0132 | 642; 12 CFR 1022.54.
0137 | 641; 681.
0142 | 437.
0144 | 660; 12 CFR 1022.42; 12 CFR 1022.43.
0145 | 640; 12 CFR 1022.70.
0150 | 318.
0156 | 12 CFR part 1014.
0157 | 12 CFR part 1015.

By direction of the Commission.
Donald S. Clark,
Secretary.

[FR Doc. 2013-26059 Filed 10-31-13; 8:45 am]

BILLING CODE 6750-01-P